DEPARTMENT OF ENERGY

Federal Energy Regulatory Commission

[Docket No. CP01-433-000]

Transcontinental Gas Pipe Line Corporation; Notice of Intent To Prepare an Environmental Assessment for the Proposed Station 35 Clean Air Project and Request for Comments on Environmental Issues

December 4, 2001.

The staff of the Federal Energy Regulatory Commission (FERC or Commission) will prepare an environmental assessment (EA) that will discuss the environmental impacts of the Station 35 Clean Air Project involving construction and operation of facilities by Transcontinental Gas Pipe Line Corporation (Transco) in Harris County, Texas.¹ These facilities would consist of 14,910 horsepower (hp) of compression at an existing compressor station. The EA will be used by the Commission in its decision-making process to determine whether the project is in the public convenience and necessity.

¹ Transco's application was filed with the Commission under section 7 of the Natural Gas Act and part 157 of the Commission's regulations.

If you are a landowner you might have also received previous notification from Transco. FERC regulations require the applicant to notify all landowners within one-half mile of the compressor station. However, the proposed facility modifications will take place entirely within Transco property and no additional land will be required for this project.

Summary of the Proposed Project

Transco proposes to modify its existing compressor site at Compressor Station 35 in Harris County, Texas to comply with Clean Air Act Amendments (CAA) of 1990 and the Texas Natural Resource Conservation Commission for the Houston-Galveston Intrastate Air Quality Control Region. To reduce emissions and comply with the CAA, Transco proposes to:

• Install 2 electric motors driving two 7455 HP centrifugal compressors and associated equipment;

• Remove 4 existing gas-fired compressors;

• Construct a new 75 feet x 110 feet compressor building, a 35 feet x 72 feet auxiliary building, a 120 feet x 200 feet electrical auxiliary building and a 16 feet × 50 feet switchgear station;

• Demolish the old compressor building and remove associated equipment; and;

• Modify existing yard piping.

Land Requirements for Construction

Construction of the proposed facilities would require about 4 acres of land in a completely fenced site that has been previously disturbed.

The EA Process

The National Environmental Policy Act (NEPA) requires the Commission to take into account the environmental impacts that could result from an action whenever it considers the issuance of a Certificate of Public Convenience and Necessity. NEPA also requires us ² to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

1. Geology and soils.

2. Land use.

3. Water resources, fisheries, and wetlands.

4. Cultural resources.

5. Vegetation and wildlife.

6. Air quality and noise.

7. Endangered and threatened species.

8. Hazardous waste.

9. Public safety.

10. Water resources, fisheries, and wetlands.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 4.

Currently Identified Environmental Issues

We have already identified several issues that we think deserve attention based on a preliminary review of the proposed facilities and the environmental information provided by Transco. This preliminary list of issues may be changed based on your comments and our analysis.

11. Air quality effects.

12. Noise impact.

13. Land-use compatibility.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

14 Send an original and two copies of your letter to: Secretary, Federal Energy Regulatory Commission, 888 First St., NE., Room 1A, Washington, DC 20426.

15. Label one copy of the comments for the attention of (Gas/Hydro Branch).

16. Reference Docket No. CP01-433-000.

17. Mail your comments so that they will be received in Washington, DC on or before (January 15, 2002).

Comments, protests and interventions may be filed electronically via the Internet in lieu of paper. See 18 CFR 385.2001(a)(1)(iii) and the instructions on the Commission's Web site under the “e-Filing” link.

If you do not want to send comments at this time but still want to remain on our mailing list, please return the Information request (appendix 2). If you do not return the Information Request, you will be removed from the environmental mailing list.

Due to current events, we cannot guarantee that we will receive mail on a timely basis from the U.S. Postal Service, and we do not know how long this situation will continue. However, we continue to receive filings from private delivery services, including messenger services in a reliable manner. The Commission encourages electronic filing of any comments or interventions or protests to this proceeding. We will include all comments that we receive within a reasonable time frame in our environmental analysis of this project.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's rules of practice and procedure (18 CFR 385.214) (see appendix 2).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC Web site (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet Web site provides access to the texts of formal documents issued by the Commission, such as orders, notices, and rulemakings. From the FERC Internet Web site, click on the “CIPS” link, select “Docket #” from the CIPS menu, and follow the instructions. For assistance with access to CIPS, the CIPS helpline can be reached at (202) 208-2474.

Linwood A. Watson, Jr.,
Acting Secretary.

[FR Doc. 01-30400 Filed 12-7-01; 8:45 am]

BILLING CODE 6717-01-P